DEPARTMENT OF LABOR

Employment and Training Administration

Notice on Reallotment of Workforce Innovation Opportunity Act (WIOA) Title I Formula Allotted Funds for Dislocated Worker Activities for Program Year (PY) 2019

AGENCY: Employment and Training Administration (ETA), Labor.

ACTION: Notice.

SUMMARY: The Workforce Innovation Opportunity Act, requires the Secretary of Labor (Secretary) to conduct reallotment of certain WIOA formula allotted funds based on ETA 9130 financial reports submitted by states as of the end of the prior PY. This notice publishes the dislocated worker PY 2019 funds for recapture by state and the amount to be reallotted to eligible states.

DATES: These funds are effective May 8, 2020.

FOR FURTHER INFORMATION CONTACT: Ms. Kimberly Vitelli, Acting Administrator, U.S. Department of Labor, Office of Workforce Investment, Employment and Training Administration, Room C-4510, 200 Constitution Avenue NW, Washington, DC. Telephone (202) 693-3639 (this is not a toll-free number) or fax (202) 693-3981.

SUPPLEMENTARY INFORMATION: In the Fiscal Year (FY) 2019 Appropriations Act, Congress appropriated WIOA PY 2019 funds in two portions: (1) Funds available for obligation July 1, 2019 (i.e., PY 2019 “base” funds), and (2) funds available for obligation October 1, 2019 (i.e., FY 2020 “advance” funds). Together, these two portions make up the complete PY 2019 WIOA funding. Training and Employment Guidance Letter (TEGL) No. 16-18 announced WIOA allotments based on this appropriation and TEGL No. 16-17 alerted states to the recapture and reallotment of funds' provisions based on obligations of PY 2018 funding, as required under WIOA Section 132(c). This section and 127(c) of WIOA requires the Secretary of Labor (Secretary) to conduct reallotment of excess unobligated WIOA Adult, Youth, and Dislocated Worker formula funds based on ETA 9130 financial reports submitted by states at the end of the prior program year (i.e., PY 2018).

WIOA regulations at 20 CFR 683.135 describe the procedures the Secretary uses for recapture and reallotment of funds. ETA will not recapture any PY 2019 funds for the Adult and Youth programs because there are no states where PY 2018 unobligated funds exceed the statutory requirements of 20 percent of state allotted funds. However, for the Dislocated Worker program, Puerto Rico had unobligated PY 2018 funds in excess of 20 percent of its allotment. Therefore, ETA will recapture a total of $2,677,483 of PY 2019 funding from Puerto Rico and reallot those funds to the remaining eligible states, as required by WIOA Section 132(c).

ETA will issue a Notice of Award to the states to reflect the recapture and reallotment of these funds. The adjustment of funds will be made to the FY 2020 advance portion of the PY 2019 allotments, which ETA issued in October 2019. The attached tables display the net changes to PY 2019 formula allotments.

WIOA and its implementing regulations do not provide specific requirements by which states must distribute realloted funds, so states have flexibility to determine the methodology used. For any state subject to recapture of funds, WIOA Section 132(c)(5) requires the Governor to prescribe equitable procedures for reacquiring funds from the state and local areas.

As mentioned, the recapture/reallotment adjustments will be made to the FY 2020 advance portion of the PY 2019 allotment. Therefore, for reporting purposes, states must reflect the recapture/reallotment amount (decrease or increase) in the “Total Federal Funds Authorized” line of any affected FY 2020 ETA 9130 financial reports (State Dislocated Worker Activities, Statewide Rapid Response, Local Dislocated Worker Activities) in a manner consistent with the method of distribution of these amounts to state and local areas used by the state. The state must include an explanation of the adjustment in the remarks section of the adjusted reports.

I. Attachment A

U.S. Department of Labor—Employment and Training Administration WIOA Dislocated Worker Activities PY 2019 Reallotment to States
| Calculating reallotment amount: Excess unobligated PY 2018 funds to be recaptured from PY 2019 funds | Calculating reallotment amount: Eligible states' PY 2018 1 dislocated worker allotments | Calculating reallotment amount: Reallotment amount for eligible states (based on eligible states' share of PY 2018 allotments) | Impact on PY 2019 allotments: Total original PY 2019 allotments before reallotment | Impact on PY 2019 allotments: Recapture/ reallotment adjustment to PY 2019 allotments | Impact on PY 2019 allotments: Revised total PY 2019 allotments
Alabama | $0 | $19,403,477 | $52,149 | $18,309,732 | $52,149 | $18,361,881
Alaska | 0 | 4,931,804 | 13,255 | 6,399,704 | 13,255 | 6,412,959
Arizona ** | 0 | 23,325,333 | 62,689 | 30,267,873 | 62,689 | 30,330,562
Arkansas | 0 | 6,424,584 | 17,267 | 6,221,613 | 17,267 | 6,238,880
California | 0 | 155,293,670 | 417,368 | 147,659,670 | 417,368 | 148,077,038
Colorado | 0 | 10,206,542 | 27,431 | 10,049,482 | 27,431 | 10,076,913
Connecticut | 0 | 14,714,935 | 39,548 | 14,170,098 | 39,548 | 14,209,646
Delaware | 0 | 2,469,027 | 6,636 | 2,403,520 | 6,636 | 2,410,156
District of Columbia | 0 | 6,506,323 | 17,486 | 8,442,862 | 17,486 | 8,460,348
Florida | 0 | 53,879,224 | 144,806 | 52,151,777 | 144,806 | 52,296,583
Georgia | 0 | 40,579,379 | 109,061 | 38,513,750 | 109,061 | 38,622,811
Hawaii | 0 | 1,625,873 | 4,370 | 1,605,251 | 4,370 | 1,609,621
Idaho | 0 | 1,975,683 | 5,310 | 1,957,840 | 5,310 | 1,963,150
Illinois | 0 | 63,122,436 | 169,648 | 59,460,547 | 169,648 | 59,630,195
Indiana | 0 | 14,131,852 | 37,981 | 13,667,363 | 37,981 | 13,705,344
Iowa | 0 | 4,157,398 | 11,173 | 4,118,716 | 11,173 | 4,129,889
Kansas | 0 | 4,687,349 | 12,598 | 4,621,465 | 12,598 | 4,634,063
Kentucky | 0 | 17,824,530 | 47,905 | 16,798,451 | 47,905 | 16,846,356
Louisiana | 0 | 20,809,229 | 55,927 | 21,222,160 | 55,927 | 21,278,087
Maine | 0 | 2,691,605 | 7,234 | 2,599,954 | 7,234 | 2,607,188
Maryland | 0 | 15,388,755 | 41,359 | 15,269,819 | 41,359 | 15,311,178
Massachusetts | 0 | 15,932,959 | 42,821 | 15,775,499 | 42,821 | 15,818,320
Michigan | 0 | 30,030,680 | 80,711 | 28,899,538 | 80,711 | 28,980,249
Minnesota | 0 | 8,735,306 | 23,477 | 8,623,538 | 23,477 | 8,647,015
Mississippi | 0 | 12,819,787 | 34,454 | 12,825,657 | 34,454 | 12,860,111
Missouri | 0 | 14,197,509 | 38,157 | 13,734,131 | 38,157 | 13,772,288
Montana | 0 | 1,566,557 | 4,210 | 1,586,432 | 4,210 | 1,590,642
Nebraska | 0 | 2,406,312 | 6,467 | 2,406,131 | 6,467 | 2,412,598
Nevada | 0 | 13,969,031 | 37,543 | 14,017,016 | 37,543 | 14,054,559
New Hampshire | 0 | 1,764,499 | 4,742 | 1,776,723 | 4,742 | 1,781,465
New Jersey | 0 | 32,143,202 | 86,388 | 31,170,385 | 86,388 | 31,256,773
New Mexico ** | 0 | 13,715,866 | 36,863 | 17,798,250 | 36,863 | 17,835,113
New York | 0 | 51,705,216 | 138,963 | 50,835,990 | 138,963 | 50,974,953
North Carolina | 0 | 30,287,711 | 81,401 | 29,115,622 | 81,401 | 29,197,023
North Dakota | 0 | 814,876 | 2,190 | 825,733 | 2,190 | 827,923
Ohio | 0 | 39,817,416 | 107,013 | 38,626,510 | 107,013 | 38,733,523
Oklahoma | 0 | 7,752,077 | 20,835 | 7,581,568 | 20,835 | 7,602,403
Oregon | 0 | 11,711,251 | 31,475 | 11,256,414 | 31,475 | 11,287,889
Pennsylvania | 0 | 53,708,691 | 144,348 | 51,069,267 | 144,348 | 51,213,615
Puerto Rico | 2,677,483 | 0 | 0 | 57,906,791 | (2,677,483) | 55,229,308
Rhode Island | 0 | 4,145,795 | 11,142 | 3,965,517 | 11,142 | 3,976,659
South Carolina | 0 | 15,568,291 | 41,841 | 14,906,311 | 41,841 | 14,948,152
South Dakota | 0 | 1,167,155 | 3,137 | 1,177,885 | 3,137 | 1,181,022
Tennessee | 0 | 19,170,626 | 51,523 | 18,173,009 | 51,523 | 18,224,532
Texas | 0 | 62,335,256 | 167,532 | 61,050,104 | 167,532 | 61,217,636
Utah ** | 0 | 4,410,694 | 11,854 | 4,319,231 | 11,854 | 4,331,085
Vermont | 0 | 862,723 | 2,319 | 866,255 | 2,319 | 868,574
Virginia | 0 | 14,034,717 | 37,720 | 13,826,714 | 37,720 | 13,864,434
Washington | 0 | 26,872,218 | 72,222 | 26,650,470 | 72,222 | 26,722,692
West Virginia | 0 | 7,526,410 | 20,228 | 9,766,567 | 20,228 | 9,786,795
Wisconsin | 0 | 11,810,606 | 31,742 | 11,437,989 | 31,742 | 11,469,731
Wyoming | 0 | 1,102,839 | 2,964 | 1,087,106 | 2,964 | 1,090,070
State Total | 2,677,483 | 996,235,284 | 2,677,483 | 1,038,970,000 | 0 | 1,038,970,000
** Includes Navajo Nation.
1 PY 2018 allotment amounts are used to determine the reallotment amount eligible states receive of the recaptured amount.

II. Attachment B

U.S. Department of Labor—Employment and Training Administration WIOA Dislocated Worker Activities PY 2019 Revised Allotments With Reallotment—PY/FY Split
| Total allotment: Original | Total allotment: Recapture/ reallotment | Total allotment: Revised | Available 7/1/19: Original | Available 7/1/19: Recapture/ reallotment | Available 7/1/19: Revised | Available 10/1/19: Original | Available 10/1/19: Recapture/ reallotment | Available 10/1/19: Revised
Alabama | 18,309,732 | 52,149 | 18,361,881 | 3,187,290 |  | 3,187,290 | 15,122,442 | 52,149 | 15,174,591
Alaska | 6,399,704 | 13,255 | 6,412,959 | 1,114,036 |  | 1,114,036 | 5,285,668 | 13,255 | 5,298,923
Arizona * | 30,267,873 | 62,689 | 30,330,562 | 5,268,918 |  | 5,268,918 | 24,998,955 | 62,689 | 25,061,644
Arkansas | 6,221,613 | 17,267 | 6,238,880 | 1,083,035 |  | 1,083,035 | 5,138,578 | 17,267 | 5,155,845
California | 147,659,670 | 417,368 | 148,077,038 | 25,704,042 |  | 25,704,042 | 121,955,628 | 417,368 | 122,372,996
Colorado | 10,049,482 | 27,431 | 10,076,913 | 1,749,376 |  | 1,749,376 | 8,300,106 | 27,431 | 8,327,537
Connecticut | 14,170,098 | 39,548 | 14,209,646 | 2,466,678 |  | 2,466,678 | 11,703,420 | 39,548 | 11,742,968
Delaware | 2,403,520 | 6,636 | 2,410,156 | 418,396 |  | 418,396 | 1,985,124 | 6,636 | 1,991,760
District of Columbia | 8,442,862 | 17,486 | 8,460,348 | 1,469,702 |  | 1,469,702 | 6,973,160 | 17,486 | 6,990,646
Florida | 52,151,777 | 144,806 | 52,296,583 | 9,078,386 |  | 9,078,386 | 43,073,391 | 144,806 | 43,218,197
Georgia | 38,513,750 | 109,061 | 38,622,811 | 6,704,329 |  | 6,704,329 | 31,809,421 | 109,061 | 31,918,482
Hawaii | 1,605,251 | 4,370 | 1,609,621 | 279,436 |  | 279,436 | 1,325,815 | 4,370 | 1,330,185
Idaho | 1,957,840 | 5,310 | 1,963,150 | 340,813 |  | 340,813 | 1,617,027 | 5,310 | 1,622,337
Illinois | 59,460,547 | 169,648 | 59,630,195 | 10,350,669 |  | 10,350,669 | 49,109,878 | 169,648 | 49,279,526
Indiana | 13,667,363 | 37,981 | 13,705,344 | 2,379,163 |  | 2,379,163 | 11,288,200 | 37,981 | 11,326,181
Iowa | 4,118,716 | 11,173 | 4,129,889 | 716,971 |  | 716,971 | 3,401,745 | 11,173 | 3,412,918
Kansas | 4,621,465 | 12,598 | 4,634,063 | 804,487 |  | 804,487 | 3,816,978 | 12,598 | 3,829,576
Kentucky | 16,798,451 | 47,905 | 16,846,356 | 2,924,211 |  | 2,924,211 | 13,874,240 | 47,905 | 13,922,145
Louisiana | 21,222,160 | 55,927 | 21,278,087 | 3,694,274 |  | 3,694,274 | 17,527,886 | 55,927 | 17,583,813
Maine | 2,599,954 | 7,234 | 2,607,188 | 452,590 |  | 452,590 | 2,147,364 | 7,234 | 2,154,598
Maryland | 15,269,819 | 41,359 | 15,311,178 | 2,658,113 |  | 2,658,113 | 12,611,706 | 41,359 | 12,653,065
Massachusetts | 15,775,499 | 42,821 | 15,818,320 | 2,746,140 |  | 2,746,140 | 13,029,359 | 42,821 | 13,072,180
Michigan | 28,899,538 | 80,711 | 28,980,249 | 5,030,724 |  | 5,030,724 | 23,868,814 | 80,711 | 23,949,525
Minnesota | 8,623,538 | 23,477 | 8,647,015 | 1,501,153 |  | 1,501,153 | 7,122,385 | 23,477 | 7,145,862
Mississippi | 12,825,657 | 34,454 | 12,860,111 | 2,232,642 |  | 2,232,642 | 10,593,015 | 34,454 | 10,627,469
Missouri | 13,734,131 | 38,157 | 13,772,288 | 2,390,786 |  | 2,390,786 | 11,343,345 | 38,157 | 11,381,502
Montana | 1,586,432 | 4,210 | 1,590,642 | 276,160 |  | 276,160 | 1,310,272 | 4,210 | 1,314,482
Nebraska | 2,406,131 | 6,467 | 2,412,598 | 418,850 |  | 418,850 | 1,987,281 | 6,467 | 1,993,748
Nevada | 14,017,016 | 37,543 | 14,054,559 | 2,440,030 |  | 2,440,030 | 11,576,986 | 37,543 | 11,614,529
New Hampshire | 1,776,723 | 4,742 | 1,781,465 | 309,285 |  | 309,285 | 1,467,438 | 4,742 | 1,472,180
New Jersey | 31,170,385 | 86,388 | 31,256,773 | 5,426,024 |  | 5,426,024 | 25,744,361 | 86,388 | 25,830,749
New Mexico * | 17,798,250 | 36,863 | 17,835,113 | 3,098,253 |  | 3,098,253 | 14,699,997 | 36,863 | 14,736,860
New York | 50,835,990 | 138,963 | 50,974,953 | 8,849,338 |  | 8,849,338 | 41,986,652 | 138,963 | 42,125,615
North Carolina | 29,115,622 | 81,401 | 29,197,023 | 5,068,338 |  | 5,068,338 | 24,047,284 | 81,401 | 24,128,685
North Dakota | 825,733 | 2,190 | 827,923 | 143,741 |  | 143,741 | 681,992 | 2,190 | 684,182
Ohio | 38,626,510 | 107,013 | 38,733,523 | 6,723,958 |  | 6,723,958 | 31,902,552 | 107,013 | 32,009,565
Oklahoma | 7,581,568 | 20,835 | 7,602,403 | 1,319,771 |  | 1,319,771 | 6,261,797 | 20,835 | 6,282,632
Oregon | 11,256,414 | 31,475 | 11,287,889 | 1,959,474 |  | 1,959,474 | 9,296,940 | 31,475 | 9,328,415
Pennsylvania | 51,069,267 | 144,348 | 51,213,615 | 8,889,946 |  | 8,889,946 | 42,179,321 | 144,348 | 42,323,669
Puerto Rico | 57,906,791 | (2,677,483) | 55,229,308 | 10,080,197 |  | 10,080,197 | 47,826,594 | (2,677,483) | 45,149,111
Rhode Island | 3,965,517 | 11,142 | 3,976,659 | 690,302 |  | 690,302 | 3,275,215 | 11,142 | 3,286,357
South Carolina | 14,906,311 | 41,841 | 14,948,152 | 2,594,835 |  | 2,594,835 | 12,311,476 | 41,841 | 12,353,317
South Dakota | 1,177,885 | 3,137 | 1,181,022 | 205,042 |  | 205,042 | 972,843 | 3,137 | 975,980
Tennessee | 18,173,009 | 51,523 | 18,224,532 | 3,163,489 |  | 3,163,489 | 15,009,520 | 51,523 | 15,061,043
Texas | 61,050,104 | 167,532 | 61,217,636 | 10,627,373 |  | 10,627,373 | 50,422,731 | 167,532 | 50,590,263
Utah * | 4,319,231 | 11,854 | 4,331,085 | 751,875 |  | 751,875 | 3,567,356 | 11,854 | 3,579,210
Vermont | 866,255 | 2,319 | 868,574 | 150,795 |  | 150,795 | 715,460 | 2,319 | 717,779
Virginia | 13,826,714 | 37,720 | 13,864,434 | 2,406,902 |  | 2,406,902 | 11,419,812 | 37,720 | 11,457,532
Washington | 26,650,470 | 72,222 | 26,722,692 | 4,639,214 |  | 4,639,214 | 22,011,256 | 72,222 | 22,083,478
West Virginia | 9,766,567 | 20,228 | 9,786,795 | 1,700,127 |  | 1,700,127 | 8,066,440 | 20,228 | 8,086,668
Wisconsin | 11,437,989 | 31,742 | 11,469,731 | 1,991,082 |  | 1,991,082 | 9,446,907 | 31,742 | 9,478,649
Wyoming | 1,087,106 | 2,964 | 1,090,070 | 189,239 |  | 189,239 | 897,867 | 2,964 | 900,831
State total | 1,038,970,000 |  | 1,038,970,000 | 180,860,000 |  | 180,860,000 | 858,110,000 |  | 858,110,000
* Includes funds allocated to the Navajo Nation.

John Pallasch,
Assistant Secretary for Employment and Training.

[FR Doc. 2020-09912 Filed 5-7-20; 8:45 am]

BILLING CODE 4510-FR-P